DEPARTMENT OF THE INTERIOR

Fish and Wildlife Service

Notice of Availability of a Final Supplement and Amendment to the 1998 Final Revised Sonoran Pronghorn Recovery Plan—Recovery Criteria and Estimates of Time for Recovery Actions for the Sonoran Pronghorn

AGENCY: Fish and Wildlife Service, Interior.

ACTION: Notice of document availability.

SUMMARY: The U.S. Fish and Wildlife Service (Service) announces the availability of a Final Supplement and Amendment to the 1998 Final Revised Sonoran Pronghorn (Antilocapra americana sonoriensis) Recovery Plan (Recovery Plan). In the U.S., the species is currently known to occur on Federal lands in Maricopa, Pima, and Yuma counties in southwestern Arizona. The Final Supplement and Amendment reassesses recovery criteria from the Recovery Plan, relates recovery actions to the five listing factors of the Endangered Species Act of 1973, and assigns a timeline to recovery actions.

ADDRESSES: Persons wishing to obtain a copy of the Final Supplement and Amendment may do so by accessing the Service's Arizona Ecological Service Field Office internet web page at Arizonaes.fws.gov or contacting John Morgart, Cabeza Prieta National Wildlife Refuge, U.S. Fish and Wildlife Service, 1611 North Second Avenue, Ajo, Arizona 85321 (520/387-4989 Direct; 520/387-6483 Refuge Office; 520/387-5359 Fax; john_morgart@fws.gov e-mail).

FOR FURTHER INFORMATION CONTACT: John Morgart (see ADDRESSES).

SUPPLEMENTARY INFORMATION:

Background

Restoring an endangered or threatened animal or plant species to the point where it is again a secure, self-sustaining member of its ecosystem is a primary goal of the Service's endangered species program. To help guide the recovery effort, the Service prepares recovery plans for most of the listed species native to the United States. Recovery plans describe actions considered necessary for conservation of species, including criteria for downlisting or delisting, and time and cost estimates for implementing the recommended recovery measures.

In a recent court decision (Civil Action No. 99-927 (ESH)), the judge ruled that the 1998 Final Revised Sonoran Pronghorn Recovery Plan “* * * fails to establish (1) objective measurable criteria which, when met, would result in a determination that the pronghorn may be removed from the list of endangered species or, if such criteria are not practicable, an explanation of that conclusion and (2) estimates of the time required to carry out those measures needed to achieve the plan's goal and to achieve intermediate steps toward that goal where practicable, or, if such estimates are not practicable, an explanation of that conclusion.” The Court ordered the Service to reconsider these portions of the Recovery Plan. The deadline for completion of this task was extended three times, with a final deadline of January 15, 2002.

The Endangered Species Act of 1973 (Act), as amended (16 U.S.C. 1531 et seq.), requires the development of recovery plans for listed species unless such a plan would not promote the conservation of a particular species. section 4(f) of the Act, as amended in 1988, requires that public notice and an opportunity for public review and comment be provided during recovery plan development. On September 25, 2001, a 60-day public review and comment period for the Draft Supplement and Amendment to the 1998 Final Revised Sonoran Pronghorn Recovery Plan was initiated. The Final Supplement and Amendment considers all information received during the public comment period. In addition, the Service and other Federal agencies will take these comments into account in the course of implementing recovery activities.

The Final Supplement and Amendment to the 1998 Final Revised Sonoran Pronghorn Recovery Plan updates selected biological sections of the Recovery Plan, addresses the five listing factors mandated by section 4(a)(1) of the Endangered Species Act of 1973, reassesses recovery criteria presented in the Recovery Plan, and where practicable, provides estimates of time necessary to carry out measures needed to effect recovery of Sonoran pronghorn as articulated in the Recovery Plan. The Final Supplement and Amendment to the 1998 Final Revised Recovery Plan was developed by the Service in coordination with an appointed Recovery Team that includes a group of scientists and agency biologists with expertise in Sonoran pronghorn ecology. The Final Supplement and Amendment to the Recovery Plan has undergone peer review by scientists, conservation biologists, range experts, and others experienced in reviewing recovery plans, and incorporates their comments where applicable.

Authority: The authority for this action is Section 4(f) of the Endangered Species Act, 16 U.S.C. 1533(f).

Dated: February 26, 2003.
David Yazzie,
Acting Regional Director.

Editorial Note: This document was received in the Office of the Federal Register on November 21, 2003.

[FR Doc. 03-29527 Filed 11-25-03; 8:45 am]

BILLING CODE 4310-55-P